DEPARTMENT OF DEFENSE

Department of the Army

Surplus Properties; Notice

SUMMARY: This notice provides information regarding the properties that have been determined surplus to the United States needs in accordance with the Defense Base Closure and Realignment Act of 1990, Public Law 101-510, as amended, and the 2005 Base Closure and Realignment Commission Report, as approved, and following screening with Federal agencies and Department of Defense components.

DATES: Effective May 9, 2006.

FOR FURTHER INFORMATION CONTACT: Headquarters, Department of the Army, Assistant Chief of Staff for Installation Management, Base Realignment and Closure Division, Attn: DAIM-BD, 600 Army Pentagon, Washington DC 20310-0600, (703) 601-2418. For information regarding a specific property, a contact is provided on the list of properties below.

SUPPLEMENTARY INFORMATION: Under the provisions of the Federal Property and Administrative Services Act of 1949, as amended, the Defense Base Closure and Realignment Act of 1990, as amended, and other public benefit conveyance authorities, this surplus property may be available for conveyance to State and local governments and other eligible entities for public benefit purposes. Notices of interest from representatives of the homeless, and other interested parties located in the vicinity of any listed surplus property should be submitted to both the recognized Local Redevelopment Authority and Army point of contact as listed above, or where no Local Redevelopment Authority has been recognized, the notice of interest shall be submitted to the Army point of contact as listed below. Local Redevelopment Authorities are in the process of being recognized. Where no Local Redevelopment Authority is listed, please contact the Army point contact below for the latest information. Notices of interest from representatives of the homeless shall include the information required by 32 CFR 176.20(c)(2)(ii). Recognized Local Redevelopment Authorities, or the Army where no Local Redevelopment Authority has been recognized, shall assist interested parties in evaluating the surplus properties for the intended use. Deadlines for notices of interest shall be 90 days from the date a corresponding notice is published in a newspaper of general circulation in the vicinity of the installation. The properties are listed by state. Additional information for any listed property may be found at http://www.hqda.army.mil/acsimweb/brac/braco.htm.

Surplus Property List

Alabama

Dothan—Harry L. Gary Jr. USARC, 801 Mill Avenue, POC: Commander, 81st Regional Readiness Command, ATTN: Base Transition Coordinator, 225 West Oxmoor Road, Birmingham, AL 35209 Telephone: 205-329-9215

Fort McClellan—Faith Wing USARC, 215 Regimental Avenue, POC: Commander, 81st Regional Readiness Command, ATTN: Base Transition Coordinator, 225 West Oxmoor Road, Birmingham, AL 35209 Telephone: 205-329-9215

Mobile—Wright USARC, 1900 Hurtel Street: Commander, 81st Regional Readiness Command, ATTN: Base Transition Coordinator, 225 West Oxmoor Road, Birmingham, AL 35209 Telephone: 205-329-9215

Montgomery—BG William P. Screws USARC, 4050 Atlanta Highway POC: Commander, 81st Regional Readiness Command, ATTN: Base Transition Coordinator, 225 West Oxmoor Road, Birmingham, AL 35209 Telephone: 205-329-9215

Troy—PFC Grady C. Anderson USARC, 358 Elba Highway, POC: Commander, 81st Regional Readiness Command, ATTN: Base Transition Coordinator, 225 West Oxmoor Road, Birmingham, AL 35209 Telephone: 205-329-9215

Tuscaloosa—AMSA 51, 2627 10th Avenue POC: Commander, 81st Regional Readiness Command, ATTN: Base Transition Coordinator, 225 West Oxmoor Road, Birmingham, AL 35209 Telephone: 205-329-9215

Tuscaloosa—Finnell AFRC, 2627 10th Avenue POC: Commander, 81st Regional Readiness Command, ATTN: Base Transition Coordinator, 225 West Oxmoor Road, Birmingham, AL 35209 Telephone: 205-329-9215

Tuskegee—Cleveland Leight Abbott USARC, 2202 VA Hospital Road, POC: Commander, 81st Regional Readiness Command, ATTN: Base Transition Coordinator, 225 West Oxmoor Road, Birmingham, AL 35209 Telephone: 205-329-9215

Arizona

Tucson—Allen Hall USARC, 1750 E. 29th Street, POC: Commander 63rd Regional Readiness Command, ATTN: Base Transition Coordinator, 4235 Yorktown Avenue, Los Alamitos, CA 90720-5002 Telephone: 520-889-1129

Arkansas

El Dorado—Rufus N. Garrett Jr. USARC, 815 West 8th Street, POC: City of El Dorado Local Redevelopment Authority, P.O. Box 486, El Dorado, AR 71731 Telephone: 870-863-4070

Fayetteville—Leroy R. Pond USARC, 1616 N. Woolsey Street, POC: Public Information and Policy Advisor, City of Fayetteville, 113 W. Mountain, Fayetteville, AR 72701 Telephone: 479-575-8330

Hot Springs—Hot Springs USARC, 200 Reserve Street, POC: Commander, 90th Regional Readiness Command, ATTN: Base Transition Coordinator, 8000 Camp Robinson Road, North Little Rock, AR 72118 Telephone: 501-771-8788

Jonesboro—Jonesboro USARC, 1001 S. Caraway Road, POC: Commander, 90th Regional Readiness Command, ATTN: Base Transition Coordinator, 8000 Camp Robinson Road, North Little Rock, AR 72118 Telephone: 501-771-8788

California

Long Beach—Schroeder Hall USARC, 3800 Willow St, POC: Commander 63rd Regional Readiness Command, ATTN: Base Transition Coordinator, 4235 Yorktown Avenue, Los Alamitos, CA 90720-5002 Telephone: 530-889-1129

Pasadena—Desiderio Hall USARC, 655 Westminster Drive, POC: Planning and Development Department, City of Pasadena, 175 North Garfield Avenue, 3rd Floor, Pasadena, CA 91101 Telephone: 626-744-7143

Riverbank—Riverbank Army Ammunition Plant, POC: City Council of Riverbank and District 1 Board Supervisors of Stanislaus County, City of Riverbank, 6707 Third Street, Riverbank, CA 95367-2396 Telephone: 209-863-7129

San Jose—PVT George L. Richey USARC, 155 W. Hedding Street, POC: Commander 63rd Regional Readiness Command, ATTN: Base Transition Coordinator, 4235 Yorktown Avenue, Los Alamitos, CA 90720-5002 Telephone: 530-889-1129

Connecticut

Fairfield—1LT John S. Turner USARC, 180 High St., POC: Fairfield High Street Redevelopment Authority, First Selectman's Office, 725 Old Post Road, Fairfield, CT06824 Telephone: 203-256-3032

Middletown—Middletown USARC, 499 Mile Lane POC: Middletown Realignment and Closure Redevelopment Authority, 245 DeKoven Drive, Middletown, CT 06457 Telephone: 860-344-3401

Milford—AMSA 69, 26 Seamans Lane, POC:, POC: Milford Local RevelopmentAuthority, City Hall, 110 River Street, Milford, CT 06460 Telephone: 203-783-3230

Waterbury—Paul J. Sutcovoy USARC, Lydia Street Extension, POC: Commander, 94th Regional Readiness Command, ATTN: Base Transition Coordinator, 11 Saratoga Boulevard, Devens, MA 01432-5216 Telephone: 978-796-2238

Delaware

Wilmington—MAJ Robert Kirkwood Memorial USARC, 3931 Kirkwood Highway, POC: Delaware Economic Development Office, Carvel State Office Bldg. 10th Fl., 820 N. French Street, Wilmington, DE 19801 Telephone: 302-577-8477 Fax: 302-577-8499

Georgia

Atlanta—Fort McPherson, POC: McPherson Planning Local Redevelopment Authority, 86 Pryor Street, Suite 300, Atlanta, Georgia 30303, (404)-614-8298

Columbus—Columbus USARC #1, 3001 Macon Road, POC: Mayor, Columbus Consolidated Government, P.O. Box 1340, Columbus, GA 31902-1340 Telephone: 706-653-4712

Forest Park—Fort Gillem, POC: Forest Park/Fort Gillem Local Redevelopment Authority, 2270 Mt. Zion Road, Jonesboro, GA 30246 Telephone: 678 610-4021

Hawaii

Hilo—SFC Minoru Kunieda USARC, 470 W. Lanikaula Street, POC: Kunieda ARC Local Redevelopment Authority, 25 Aupuni Street, Hilo, HI 96720 Telephone: 808-961-8234

Illinois

Centralia—SFC E.L. Copple USARC, 904 Martin Luther King Drive, POC City of Centralia, 222 South Poplar, Centralia, IL 62801, Telephone: 618-533-7622

Fairfield—SSG R.E. Walton USARC, 1002 Leininger Road, POC: SSG R.E. Walton U.S. Army Reserve Center Local Redevelopment Authority, 108 NW. 7th Street, Fairfield, IL 62837 Telephone: 618-842-2153

Marion—PFC R.G. Wilson USARC, 1001 Deyoung Street, POC: City of Marion, 1102 Tower Square Plaza, Marion, IL 62959 Telephone: 618-997-6281

Waukegan—Waukegan AFRC, 1721 North McAree Road, POC: Waukegan Federal Acquisition Committee, 100 North Martin Luther King Jr. Avenue, Waukegan, IL 60085 Telephone: 847-599-2510

Iowa

Cedar Rapids—Cedar Rapids AFRC, 1599 Wenig Road NE., POC: Commander, 89th Regional Readiness Command, ATTN: Base Transition Coordinator, 3130 George Washington Boulevard, Wichita, KS 67210-1598 Telephone: 316-681-1759 ext. 1223

Middletown—Burlington Memorial USARC, 17879 Highway 79, POC: Commander, 89th Regional Readiness Command, ATTN: Base Transition Coordinator, 3130 George Washington Boulevard, Wichita, KS 67210-1598 Telephone: 316-681-1759 ext. 1223

Kansas

Parsons—Kansas Army Ammunition Plant, POC: Kansas Army Ammunition Plant Local Redevelopment Planning Authority, P.O. Box 387, Oswego, KS 67356 Telephone: 620-795-2138

Kentucky

Louisville—MG Benjamin J. Butler USARC, 3600 Century Division Way, P-3, POC: Louisville/Jefferson Redevelopment Authority, 444 South Fifth Street, Suite 600, Louisville, KY 40202 Telephone: 205-329-9215

Paducah—Paducah Memorial USARC, 2956 Park Avenue, POC: City of Paducah Local Redevelopment Authority, P.O. Box 2267, 300 South 5th Street, Paducah, KY 42002-2267 Telephone: 270-444-8690

Paducah—USARC #2,2001 N. 12th Street, POC: City of Paducah Local Redevelopment Authority, P.O. Box 2267, 300 South 5th Street, Paducah, KY 42002-2267 Telephone: 270-444-8690

Massachusetts

Chicopee—Westover AFRC, Bldg 5550, Westover AFB POC: Commander, 94th Regional Readiness Command, ATTN: Base Transition Coordinator, 11 Saratoga Boulevard, Devens, MA 01432-5216 Telephone: 978-796-2238

Springfield—Arthur MacArthur USARC, 50 East Street, POC: Commander, 94th Regional Readiness Command, ATTN: Base Transition Coordinator, 11 Saratoga Boulevard, Devens, MA 01432-5216 Telephone: 978-796-2238

Michigan

Battle Creek—George Dolliver USARC/AMSA 135, 135 N. Washington Avenue, POC: Commander, 88th Regional Readiness Command, ATTN: Base Transition Coordinator, 506 Roeder Circle, Fort Snelling, MN 55111-4009 Telephone: 612-713-3827

Selfridge—United States Army Garrison Michigan POC: Chesterfield Township Local Redevelopment Authority, 47275 Sugarbush, Chesterfield Township, MI 48047 Telephone: 586-949-0400

Minnesota

Cambridge—Cambridge Memorial USARC, 540 Fifth Avenue, NW., POC: City of Cambridge Local Redevelopment Authority, 300 Third Avenue Northeast, Cambridge, MN 55008 Telephone: 763-552-3201

Faribult—GEN Beebe USARC/AMSA 111, 2118 Highway 60, POC: Faribult Local Redevelopment Authority, 208 First Avenue, NW., Faribult, MN 55021-2884 Telephone: 507-333-0345

Montana

Helena—AMSA #75(G) (Fort William Harrison), 2150 Williams Street, POC: Commander, 96th Regional Readiness Command, ATTN: Base Transition Coordinator, Building 102, Fort Douglas Armed Forces Reserve Center, Salt Lake City, Utah 84113-5007 Telephone: 801-656-4255

Missoula—Ernest Veuve Hall USARC/AMSA 75, T-25, Fort Missoula, POC: Commander, 96th Regional Readiness Command, ATTN: Base Transition Coordinator, Building 102, Fort Douglas Armed Forces Reserve Center, Salt Lake City, Utah 84113-5007 Telephone: 801-656-4255

Nebraska

Hastings—Hastings USARC, 4790 East J Street, POC: Commander, 89th Regional Readiness Command, ATTN: Base Transition Coordinator, 3130 George Washington Boulevard, Wichita, KS 67210-1598 Telephone: 316-681-1759 ext. 1223

New Hampshire

Portsmouth—Paul A. Doble USARC, 125 Cottage Street, POC: City of Portsmouth, 1 Junkins Avenue, Portsmouth, NH 03801 Telephone: 603-610-7202

New Jersey

Edison—SGT J.W. Kilmer/AMSA 21, 91 Truman Drive, POC: Edison Township Council, Township of Edison Municipal Complex, 100 Municipal Boulevard, Edison, NJ 08817 Telephone: 732-248-7371

Fort Monmouth—Fort Monmouth Economic Revitalization Planning Authority, P.O. Box 001, Trenton, NJ 08625-001 Telephone: 609-777-1257

Pennsauken—SFC Nelson V. Brittin USARC/S-S, 3911 Federal Street, POC: Brittin USARC Local Redevelopment Authority, Municipal Building, 5605 N. Crescent Boulevard, Pennsauken, NJ 08110 Telephone: 856-665-1000

New York

Amityville—Amityville AFRC, 600 Albany Avenue, POC: Town Board of Town of Babylon, Downtown Revitalization Task Force, 200 East Sunrise Highway, Lindenhurst, NY 11757-2597 Telephone: 631-957-3013

Fort Tilden—Fort Tilden USARC, 415 State Road and Breezy Point Blvd, POC: Fort Tilden Redevelopment Authority, 120-55 Queens Boulevard—Room 226, Kew Gardens, NY 11424 Telephone: 718-286-3000

New Windsor—Stewart Newburgh USARC, 930 Raz Avenue, POC: Town of New Windsor Local Redevelopment Authority, 555 Union Avenue, New Windsor, NY 12553-6196 Telephone: 845-563-4610

Niagara Falls—Niagara Falls USARC/AMSA 76, 9400 Porter Road, POC: Town of Niagara Local Redevelopment Authority, 7105 Lockport Road, Town of Niagara, NY 14304 Telephone: 716-297-2150 ext. 136

Poughkeepsie—2LT Glen Carpenter USARC, 25 Oakley Street, POC: City of Poughkeepsie Industrial Development Authority, Municipal Building, P.O. Box 300, Poughkeepsie, NY 12602 Telephone: 845-451-4046

Uniondale—BG Theodore Roosevelt Jr. USARC, 101 Oak Street, POC: Commander, 77th Regional Readiness Command, ATTN: Base Transition Coordinator, Building 200, Fort Totten, Flushing, NY 11359-1016 Telephone: 718-352-8717

North Carolina

Albemarle—Jesse F. Niven Jr. USARC, 1816 Main Street, POC: City of Albemarle Local Redevelopment Authority, P.O. Box 190, Albemarle, NC 28002-0190 Telephone: 704-984-9408

Wilmington—Adrian B. Rhodes AFRC, 2144 Lake Shore Drive, POC: City of Wilmington Redevelopment Authority, P.O. Box 1810, Wilmington, NC 28402-1810 Telephone: 910-341-5820

Ohio

Columbus—Ft Hays Memorial USARC, 530 Jack Gibbs Blvd, Bldg 300, POC: Commander, 88th Regional Readiness Command, ATTN: Base Transition Coordinator, 506 Roeder Circle, Fort Snelling, MN 55111-4009 Telephone: 612-713-3827

Kenton—LT Jacob Parrott USARC, 1025 S. Main Street, POC: Hardin County Local Redevelopment Authority, One Courthouse Square, Suite 100, Kenton, OH 43326 Telephone: 419-674-2205

Mansfield—SSG Roy Clifton Scouten USARC, 271 Hodges Street, POC: Commander, 88th Regional Readiness Command, ATTN: Base Transition Coordinator, 506 Roeder Circle, Fort Snelling, MN 55111-4009 Telephone: 612-713-3827

Springfield—SFC M.L. Downs USARC/AMSA 58, 1515 W. High Street, POC: City of Springfield Local Redevelopment Authority, 76 East High Street, Springfield, OH 45502 Telephone: 937-324-7674

Whitehall—Whitehall Memorial USARC, 721 Country Road, POC: Whitehall Local Redevelopment Authority, 360 South Yearling Road, Whitehall, OH 43213 Telephone: 614-338-3103

Oklahoma

Clinton—Donald A. Roush USARC, 1720 Opal Street, POC: Clinton Redevelopment Authority, P.O. Box 1177, 415 Gary Boulevard, Clinton, OK 73601 Telephone: 580-323-0261

Norman—Joe A. Smalley USARC, 1507 W. Lindsey, POC: City of Norman Local Redevelopment Authority, P.O. Box 370, Norman, OK 73070 Telephone: 405-366-5439

Oregon

Portland—2LT Alfred Sharff USARC, 8801 N. Chautauqua Blvd, POC: Commander, 70th Regional Readiness Command, ATTN: Base Transition Coordinator, 4575 36th Avenue West, Seattle, WA 98199-5000 Telephone: 206-510-6793

Portland—SGT Jerome Sears USARC, 2731 SW Multnohah Blvd., POC: Commander, 70th Regional Readiness Command, ATTN: Base Transition Coordinator, 4575 36th Avenue West, Seattle, WA 98199-5000 Telephone: 206-510-6793

Pennsylvania

Bethlehem—Wilson-Kramer USARC, 2940 Airport Road, POC: Bethlehem Local Redevelopment Authority, 10 East Church Street, Bethlehem, PA 18018 Telephone: 610-8654-7085

Bloomsburg—Bloomsburg USARC, 1469 Old Berwick Road, POC: Scott Township Local Redevelopment Authority, Scott Township Municipal Building, 350 Tenny Street, Bloomsburg, PA 17815 Telephone: 570-784-9114

Chester—James W. Reese USARC, 500 W. 245th St. (Upland), POC: Reese Local Redevelopment Authority, 224 Castle Avenue, Upland, PA 19015 Telephone: 610-8734-7317

Horsham—Horsham Memorial USARC, 936 Easton Road, POC: Horsham Township Authority for NASJRB (Naval Air Station Joint Reserve Base), 1025 Horsham Road, Horsham, PA 19044 Telephone: 215-643-3131

Lewisburg—Lewisburg USARC, Hafer and JPM Roads, POC: Commander, 99th Regional Readiness Command, ATTN: Base Transition Coordinator, 99 Soldiers Lane, Corapolis, Pennsylvania 151908-2550 Telephone: 412-604-8159

Norristown—1LT Ray S. Musselman Memorial USARC, 1020 Sandy Hill Road, POD: Commander, 99th Regional Readiness Command, ATTN: Base Transition Coordinator, 99 Soldiers Lane, Corapolis, Pennsylvania 15108-2550 Telephone 412-604-8159

Norristown—North Penn Memorial USARC, 1625 Berks Road, POC: North Penn USARC Redevelopment Authority, 1721 Valley Forge Road, P.O. Box 767, Worcester, PA 19490 610-5484-1410

Oakdale—Charles E. Kelly Support Facility, 6 Lobaugh St., POC: Redevelopment Authority of Allegheny County, 425 Sixth Avenue, Suite 800, Pittsburgh, PA 15219 Telephone: 412-350-1061

Philadelphia—Germantown Veterans Memorial USARC, 5200 Wissahickon Avenue, POC: City of Philadelphia Planning Commission, One Parkway, 13th Floor, 1515 Arch Street, Philadelphia, PA 19102 Telephone: 215-683-4615

Philadelphia—Philadelphia Memorial USARC, 2838-98 Woodhaven Road, POC: City of Philadelphia Planning Commission, One Parkway, 13th Floor, 1515 Arch Street, Philadelphia, PA 19102 Telephone: 215-683-43615

Wilkes Barre—Wilkes-Barre USARC, 1001 Highway 315 South, POC: Commander, 99th Regional Readiness Command, ATTN: Base Transition Coordinator, 99 Soldiers Lane, Corapolis, Pennsylvania 15108-2550 Telephone: 412-604-8159

Williamsport—Lycoming Memorial USARC, 1605 Four Mile Drive, POC: Loyalstock Township Board of Supervisors, 2501 East Third Street, Williamsport, PA 17701 Telephone: 570-323-6151

Puerto Rico

Bayamón—1LT Paul Lavergné USARC, RD 167, KM 5.0, Hwy 8, POC: Bayamón Lavergné U.S. Army Reserve Center Local Redevelopment Authority, P.O. Box 1588, Bayamón, PR 00961 Telephone: 787-707-4925

Rhode Island

Bristol—Quinta-Gamelin USARC, Asylum Road, POC: Town Council Local Redevelopment Authority, Town Hall, 10 Court Street, Bristol, RI 02809 Telephone: 3401-253-7000 ext. 133

Warwick—PT Lloyd S. Cooper III USARC, 885 Sandy Lane, POC: Warwick Local Redevelopment Authority, City Hall Annex, 3275 Post Road, Warwick, RI 02886 Telephone: 3401-738-2000 ext. 6292

South Carolina

Rock Hill—Rock Hill Memorial USARC, 515 South Cherry Road, POC: Commander, 81st Regional Readiness Command, ATTN: Base Transition Coordinator, 225 West Oxmoor Road, Birmingham, AL 35209 Telephone: 205-329-9215

Tennessee

Chattanooga—Chattanooga (VAAP) USARC (BLDG 228), 6703d Bonny Oaks Drive, Bldg 228, POC: 81st Regional Readiness Command, ATTN: Base Transition Coordinator, 225 West Oxmoor Road, Birmingham, AL 3209 Telephone: 205-329-9215

Texas

Abilene—Grimes Memorial USARC, 4300 S. Treadway, POC: Abilene Local Redevelopment Authority, P.O. Box 60, Abilene, TX 79504 Telephone: 325-676-6206.

Alice—Alice USARC, 100 Stadium Road, POC: Alice Local Redevelopment Authority, P.O. Box 3229, Alice, TX 78333 Telephone: 361-668-7210

Amarillo—Blucher S. Tharp Memorial USARC, 2801 Duniview Circle, POC: Commander, 90th Regional Readiness Command, ATTN: Base Transition Coordinator, 8000 Camp Robinson Road, North Little Rock, AR 72118 Telephone: 501-771-8788

Dallas—Jules E. Muchert USARC, 10031 E. Northwest Highway, POC: City of Dallas, Director of Development Services, 1500 Marilla Street, 5 DN, Dallas, TX 75201, Telephone: 314-670-4127

Houston—Houston USARC #2, 7077 Perimeter Park Drive, POC: City of Houston, Building Services Department, City of Houston, P.O. Box 1652, Houston, TX 77251 Telephone: 713-247-2639

Houston—Houston USARC #3, 6903 Perimeter Park Drive, POC: City of Houston, Building Services Department, City of Houston, P.O. box 1652, Houston, TX 77251 Telephone: 713-247-2639

Marshall—Marshall USARC, 1209 Pinecrest Drive East, POC: Commander, 90th Regional Readiness Command, ATTN: Base Transition Coordinator, 8000 Camp Robinson Road, North Little Rock, AR 72118 Telephone: 501-771-8788

San Antonio—Boswell Street USARC, 432 Boswell Street, POC: San Antonio Local Development Authority, City of San Antonio Economic Development Department, P.O. Box 839966, San Antonio, TX 78283 Telephone: 210-207-8040

San Antonio—Callaghan Road USAC, 600 Callaghan Road, POC: San Antonio Local Redevelopment Authority, City of San Antonio Economic Development Department, P.O. Box 839966, San Antonio, TX 78283 Telephone: 210-207-8040

Texarkana—Watts-Guillot USARC, 2800 W. 15th Street, POC: Red River Redevelopment Authority, 107 Chapel Lane, New Boston, TX 75570 Telephone 903-223-8741

Texarkana—Lone Star Army Ammunition Plant, POC: Red River Redevelopment Authority, 107 Chapel Lane, New Boston, TX 75570 Telephone: 903-223-9841

Texarkana—Red River Army Ammunition Plant, POC: Red River Redevelopment Authority, 107 Chapel Lane, New Boston, TX 75570 Telephone: 903-223-9841

Wichita Falls—Wichita Falls USARC, 3315 9th Street, POC: City of Wichita Falls, Community Development, P.O. Box 1431, Wichita Falls TX 76307, 1300 Seventh Street, Wichita Falls, TX 76301 Telephone: 940-761-7451

Vermont

Chester—Chester Memorial USARC, 978 VT Route 11 West, POC: Chester Local Redevelopment Authority, P.O. Box 370, Chester, VT 05143 Telephone: 802-875-2173

Rutland—Courcelle Brothers USARC, 16 North Street Extension, POC: Rutland Redevelopment Authority, 103 Wales Street, Rutland, VT 05701 Telephone: 802-775-2910

Virginia

Hampton—Fort Monroe POC: Federal Area Development Authority, City of Hampton, 22 Lincoln Street—8th Floor, Hampton, VA 23669, Telephone: 757-727-6884

Washington

Pasco—PFC Daniel L. Wagenaar USARC, 1011 E. Ainsworth Street, POC; Port of Pasco, 904 E. Ainsworth, Pasco, WA 99301 Telephone: 509-547-3378

Seattle—2LT Robert R. Leisy USARC/AMSA 79, 4570 Texas West Way, POC: Commander, 70th Regional Readiness Command, ATTN: Base Transition Coordinator, 4574 36th Avenue West, Seattle, WA 98199-5000 Telephone: 206-510-6793

Seattle—CPT James R. Harvey USARC, 4510 Texas West Way, POC: Commander, 70th Regional Readiness Command, ATTN: Base Transition Coordinator, 4575 36th Avenue West, Seattle, WA 98199-5000

Spokane—1LT Richard H. Walker USARC, n. 3800 Sullivan Road, POC: Commander, 70th Regional Readiness Command, ATTN: Base Transition Coordinator, 4575 36th Avenue West, Seattle, WA 98199-5000, Telephone: 206-510-6793.

Spokane—PFC Joe E. Mann USARC/AMSA 80, N. 4415 Market Street, POC: Commander, 70th Regional Readiness Command, ATTN: Base Transition Coordinator, 4575 36th Avenue West, Seattle, WA 98199-5000, Telephone: 206-510-6793.

West Virginia

Beverly—Elkins USARC, Route 1, Box 255, POC: Elkins-Randolph Local Redevelopment Authority, Elkins City Hall, 401 Davis Avenue, Elkins, WV 26241, Telephone: 302-636-1414.

Fairmont—1LT Harry B. Colborn USARC, Mary Lou Retton Drive, POC: City of Fairmont Planning Commission, 200 Jackson Street, Fairmont, WV 26554, Telephone: 3-4-366-6211, ext. 308.

Huntington—MAJ Leslie Bias USARC, 1550 Spring Valley Drive, POC: Commander, 99th Regional Readiness Command, ATTN: Base Transition Coordinator, 99 Soldiers Lane, Corapolis, Pennsylvania 15108-2550, Telephone: 412-604-8159.

Ripley—SSG Juhl USARC/AMSA 114, 331 Second Avenue, POC: Commander, 99th Regional Readiness Command, ATTN: Base Transition Coordinator, 99 Soldiers Lane, Corapolis, Pennsylvania 15108-2550, Telephone: 206-510-6793.

Authority: This action is authorized by the Defense Base Closure and Realignment Act of 1990, Title XXIX of the National Defense Authorization Act for Fiscal Year 1991, Pub. L. 101-510; the Base Closure Community Redevelopment and Homeless Assistance Act of 1994, Pub. L. 103-421; the Military Construction Authorization Act for Fiscal Year 1994, Division B of Pub. L. 103-160; and 10 U.S.C. 113.

Dated: May 3, 2006.
Joseph W. Whitaker,
Deputy Assistant Secretary of the Army (Installations and Housing).

[FR Doc. 06-4305 Filed 5-8-06; 8:45 am]

BILLING CODE 3710-08-M